DEPARTMENT OF THE INTERIOR

National Park Service

[NPS-WASO-NAGPRA-14642; PPWOCRADN0-PCU00RP14.R50000]

Notice of Intent To Repatriate Cultural Items: The Field Museum of Natural History, Chicago, IL

AGENCY: National Park Service, Interior.

ACTION: Notice.

SUMMARY: The Field Museum of Natural History, in consultation with the appropriate Indian tribes or Native Hawaiian organizations, has determined that the cultural items listed in this notice meet the definition of sacred objects and objects of cultural patrimony. Lineal descendants or representatives of any Indian tribe or Native Hawaiian organization not identified in this notice that wish to claim these cultural items should submit a written request to the Field Museum of Natural History. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Field Museum of Natural History at the address in this notice by February 18, 2014.

ADDRESSES: Helen Robbins, Repatriation Director, Field Museum of Natural History, 1400 South Lake Shore Drive, Chicago, IL 60605, telephone (312) 665-7317, email hrobbins@fieldmuseum.org.

SUPPLEMENTARY INFORMATION: Notice is here given in accordance with the Native American Graves Protection and Repatriation Act (NAGPRA), 25 U.S.C. 3005, of the intent to repatriate cultural items under the control of the Field Museum of Natural History, Chicago, IL, that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

The two cultural items are Tlingit ceremonial items collected near Juneau, AK, in the mid- to late 1800s.

In 1902, the Field Museum of Natural History (Field Museum) purchased a large collection of Tlingit cultural items from George Thornton Emmons known as the Spuhn Collection. It is unknown whether Emmons or Carl Spuhn, a manager with the Northwest Trading Company, originally acquired the two cultural items. The requested items consist of a large wooden box drum painted with the design of a wolf (Wolf Drum) and a steel, double-bladed dagger decorated with a design of a shark (Shark Dagger). Field Museum records indicate that the Wolf Drum was acquired sometime before 1900 from a Chief of the Taku Tribe who originally lived at Taku Harbor, AK, and who later moved to Gastineau Channel below Juneau. Field Museum records indicate that the Shark Dagger was acquired before 1900, and came from the Auk tribe living in Juneau, AK. The short upper blade is ornamented as a ground shark which was the totemic emblem of the family of the owner. Its eyes and teeth are embellished with Abalone shell. The dagger appears to be hafted, in part, with copper.

The cultural affiliation of the Wolf Drum is Taku Tlingit as indicated through museum records and consultation with representatives of the Central Council of the Tlingit & Haida Indian Tribes (Central Council). The Central Council has requested the Drum on behalf of the Yanyeidi clan of the Taku Kwan. The cultural affiliation of the Shark Dagger is Auk Tlingit as indicated by museum records and by consultation evidence provided by the Central Council. Museum records indicate that the Shark Dagger belonged to the family of a principal chief of the Auk tribe living at “Sin-ta-ka heenee” (Juneau). The Central Council requested the Shark Dagger on behalf of the Wooshkeetaan clan of the Auk Kwan.

The 2 cultural items have been identified as Native American sacred objects and objects of cultural patrimony through museum records, scholarly publications, primary documents, and consultation information provided by representatives of Central Council.

Determinations Made by the Field Museum

Officials of the Field Museum have determined that:

• Pursuant to 25 U.S.C. 3001(3)(C), the two cultural items described above are specific ceremonial objects needed by traditional Native American religious leaders for the practice of traditional Native American religions by their present-day adherents.

• Pursuant to 25 U.S.C. 3001(3)(D), the two cultural items described above have ongoing historical, traditional, or cultural importance central to the Native American group or culture itself, rather than property owned by an individual.

• Pursuant to 25 U.S.C. 3001(2), there is a relationship of shared group identity that can be reasonably traced between the sacred objects and objects of cultural patrimony and the Central Council of the Tlingit & Haida Indian Tribes.

Additional Requestors and Disposition

Lineal descendants or representatives of any Indian tribe or Native Hawaiian organization not identified in this notice that wish to claim these cultural items should submit a written request with information in support of the claim to Helen Robbins, Repatriation Director, Field Museum of Natural History, 1400 South Lake Shore Drive, Chicago, IL 60605, telephone (312) 665-7317, email hrobbins@fieldmuseum.org, by February 18, 2014. After that date, if no additional claimants have come forward, transfer of control of the sacred objects and objects of cultural patrimony to the Central Council of the Tlingit & Haida Indian Tribes may proceed.

The Field Museum is responsible for notifying the Central Council of the Tlingit & Haida Indian Tribes and the Douglas Indian Association.

Dated: December 9, 2013.
Melanie O'Brien,
Acting Manager, National NAGPRA Program.

[FR Doc. 2014-00798 Filed 1-15-14; 8:45 am]

BILLING CODE 4312-50-P